DEPARTMENT OF HEALTH AND HUMAN SERVICES

Centers for Disease Control and Prevention

[30Day-16-0457]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Aggregate Reports for Tuberculosis Program Evaluation (OMB Control Number 0920-0457)—Reinstatement Without Change of a Previously Approved Collection—National Center for HIV/AIDS, Viral Hepatitis, STD, and TB Prevention (NCHHSTP), Centers for Disease Control and Prevention (CDC).

Background and Brief Description

CDC, NCHHSTP, Division of Tuberculosis Elimination (DTBE) proposes a reinstatement without change of the Aggregate Reports for Tuberculosis Program Evaluation, previously approved under OMB Control Number 0920-0457. This request is for a three-year clearance. There are no revisions to the report forms, data definitions, or reporting instructions.

DTBE is the lead agency for tuberculosis elimination in the United States. To ensure the elimination of tuberculosis in the United States, CDC monitors indicators for key program activities, such as finding tuberculosis infections in recent contacts of cases and in other persons likely to be infected and providing therapy for latent tuberculosis infection.

In 2000, CDC implemented two program evaluation reports for annual submission: Aggregate report of follow-up for contacts of tuberculosis, and Aggregate report of screening and preventive therapy for tuberculosis infection (OMB No. 0920-0457). The respondents for these reports were the 68 state and local tuberculosis control programs receiving federal cooperative agreement funding through DTBE. This group will also respond to this collection of information.

These Aggregate reports emphasize treatment outcomes, high-priority target populations vulnerable to tuberculosis, and programmed electronic report entry, which transitioned to the National Tuberculosis Indicators Project (NTIP), a secure web-based system for program evaluation data, in 2010. No other federal agency collects this type of national tuberculosis data, and the Aggregate report of follow-up for contacts of tuberculosis, and Aggregate report of screening and preventive therapy for tuberculosis infection are the only data source about latent tuberculosis infection for monitoring national progress toward tuberculosis elimination with these activities.

CDC provides ongoing assistance in the preparation and utilization of these reports at the local and state levels of public health jurisdiction. CDC also provides respondents with technical support for NTIP access (Electronic—100%, Use of Electronic Signatures).

The annual burden to respondents is estimated to be 226 hours.

Estimated Annualized Burden Hours
Type of respondent | Form name | Number of respondents | Number of responses per respondent | Average burden per response (in hours)
Data clerks and Program Managers (electronic) | Follow-up and Treatment of Contacts to Tuberculosis Cases Form | 100 | 1 | 30/60
Program Managers (manual) | Follow-up and Treatment of Contacts to Tuberculosis Cases Form | 18 | 1 | 30/60
Data clerks (manual) | Follow-up and Treatment of Contacts to Tuberculosis Cases Form | 18 | 1 | 3
Data clerks and Program Managers (electronic) | Targeted Testing and Treatment for Latent Tuberculosis Infection | 100 | 1 | 30/60
Program Managers (manual) | Targeted Testing and Treatment for Latent Tuberculosis Infection | 18 | 1 | 30/60
Data clerks (manual) | Targeted Testing and Treatment for Latent Tuberculosis Infection | 18 | 1 | 3

Leroy A. Richardson,
Chief, Information Collection Review Office, Office of Scientific Integrity, Office of the Associate Director for Science, Office of the Director, Centers for Disease Control and Prevention.

[FR Doc. 2016-23072 Filed 9-23-16; 8:45 am]

BILLING CODE 4163-18-P